NATIONAL SCIENCE FOUNDATION

Proposal Review Panel for Materials Research; Notice of Meeting

In accordance with the Federal Advisory Committee Act (Pub. L. 92-463 as amended), the National Science Foundation announces the following meeting:

Name: Site visit review of the Materials Research Science and Engineering Center (MRSEC) at the University of Wisconsin—Madison by the Division of Materials Research (DMR) #1203

Dates and Times: April 26, 2015; 7:00 p.m. to 9:00 p.m.

April 27, 2015; 7:00 a.m.-8:30 p.m.

April 28, 2015; 7:15 a.m.-4:30 p.m.

Place: University of Wisconsin, Madison, WI.

Type Of Meeting: Part Open.

Contact Person: Dr. Thomas Rieker, Program Director, Division of Materials Research, Room 1065, National Science Foundation, 4201 Wilson Boulevard, Arlington, VA 22230, Telephone (703) 292-4914.

Purpose Of Meeting: To provide advice and recommendations concerning further support of the MRSEC at the University of Wisconsin.

Agenda:

Sunday, April 26, 2015

7:00 p.m.-9:00 p.m. Closed—Briefing of panel

Monday, April 27, 2015

7:00 a.m.-5:00 p.m. Open—Review of the MRSEC

5:00 p.m.-6:30 p.m. Closed—Executive Session

7:00 p.m.-8:30 p.m. Open—Dinner

Tuesday, April 28, 2015

7:30 a.m.-10:10 a.m. Open—Review of the MRSEC

10:10 a.m.-4:30 p.m. Closed—Executive Session, Draft and Review Report

Reason For Closing: The work being reviewed may include information of a proprietary or confidential nature, including technical information; financial data, such as salaries and personal information concerning individuals associated with the MRSEC. These matters are exempt under 5 U.S.C. 552 b(c), (4) and (6) of the Government in the Sunshine Act.

Dated: February 3, 2015.
Suzanne Plimpton,
Acting Committee Management Officer.

[FR Doc. 2015-02384 Filed 2-5-15; 8:45 am]

BILLING CODE 7555-01-P